DEPARTMENT OF COMMERCE

International Trade Administration

U.S.-Japan Renewable Energy and Energy Efficiency Policy Business Roundtable Tokyo, Japan, February 23, 2015

AGENCY: International Trade Administration, Department of Commerce.

ACTION: Notice.

Event Description

The U.S. Department of Commerce's (DOC) International Trade Administration (ITA) is seeking representatives from up to 25 qualified U.S. companies to join Japanese industry counterparts for a U.S.-Japan Renewable Energy Policy Business Roundtable (Business Roundtable) on Monday, February 23 in Tokyo, Japan. Senior level officials from DOC, the U.S. Department of Energy (DOE), and Japanese Ministry of Economy, Trade and Industry (METI) will attend the Roundtable to provide policy updates, as well as to ensure that the exchange of views among the companies will be taken into consideration in the U.S-Japan Clean Energy Policy Dialogue (CEPD) that will be held during the same week and in other bilateral meetings throughout the year. U.S. firms will also be given an opportunity to network with Japanese firms and identify potential business partners. ITA hopes that this cooperation between the U.S. and Japanese private sectors in this dynamic sector will lead to innovations that will provide solutions to energy needs and enhance bilateral economic development. The U.S. Department of Commerce's Global Markets and U.S. & Foreign Commercial Service (CS) will also be available in Tokyo to provide its export counseling services to participating companies.

This event is conveniently scheduled concurrent with World Smart Energy Week (WSEW) in Tokyo (February 25-27), a DOC-certified trade show, providing firms attending the Business Roundtable an opportunity to also participate in the year's largest smart energy-related Trade Show in Japan.

The third meeting of the Business Roundtable supports ITA's commitments contained in the Renewable Energy and Energy Efficiency (RE&EE) Export Initiative, which aims to significantly increase U.S. RE&EE exports under the National Export Initiative. It also aims to continue the process of enhancing the policy work being done at the CEPD by the DOE and METI, by ensuring the private sector remains engaged in policy developments in both countries.

Commercial Setting

The March 11, 2011 great east Japan earthquake and Fukushima Daiichi nuclear disaster exposed major weaknesses in Japan's national energy strategy and prompted calls for electricity system reform. The decision to take Japan's nuclear reactors offline pending demonstrated compliance with strict new safety standards after 3.11 led to a renewed focus on looking to renewables for Japan's energy needs and prompted calls for a new electricity system reform plan. In 2012, Japan implemented a Feed-in-Tariff program to promote the renewable sector. The Japanese renewable energy market is both large and widespread, encompassing multiple renewable energy subsectors. The sheer size of Japan's renewable energy expansion, and the investment opportunity it has created, should provide opportunities for U.S. exporters capable of providing cutting-edge technologies and services to the market. In addition, Japan's plan to deregulate its energy generation, distribution, and retail markets will lead to additional opportunities in the energy generation and storage sectors. The U.S.-Japan Renewable Energy Policy Business Roundtable is an opportunity to meet with senior level Japanese officials and representatives of Japanese companies to learn about and exchange views on these market developments.

Event Goals

The Business Roundtable is an event to bring U.S. and Japanese private sector firms in the renewable energy and energy efficiency sectors together to discuss policy developments in both countries, to develop partnerships, and to provide input to policymakers in both countries. The Business Roundtable is intended to be:

• A venue for U.S. firms to meet important Japanese policy-makers in the renewable energy and energy efficiency sectors.

• A venue where U.S. and Japanese firms can share experiences, expertise, and lessons learned in areas related to smart energy, including energy deregulation, energy management, energy storage, and renewable energy.

• A venue where U.S. and Japanese firms can discuss key technical challenges related to the above sectors.

• A venue to foster collaboration between the U.S. and Japanese private sector to solve other challenges related to renewable energy.

• An opportunity for companies from both the United States and Japan to network, build relationships, and identify partners for current projects and potential joint future work.

Event Scenario

In December 2012, agencies of the Governments of the United States and Japan—DOE, DOC, and METI—convened the first bilateral Renewable Energy Policy Business Roundtable in Tokyo. Held in conjunction with the CEPD, the Roundtable allowed the private sector to explore areas of mutual concern and share with government officials their experiences with the policy landscape of renewable energy and energy efficiency. The second Roundtable was held in December 2013 in Livermore, California, once again bringing U.S. and Japanese firms to discuss developments in the renewable energy and energy efficiency sectors.

Participating firms will:

• Gain a deeper understanding of the changing Japanese policy and regulatory landscape with respect to RE&EE;

• Interact with Japanese policymakers and private sector representatives active in the RE&EE sector;

• Provide perspectives on how to increase U.S.-Japan business partnerships in the RE&EE sector;

• Enhance the bilateral dialogue by identifying key policy issues and sharing best practices;

• Participate in a plenary session getting a briefing on the status of renewable energy policy in Japan;

• Participate in panel or breakout discussions focusing on Energy Storage and Renewable Integration or Energy Management and Energy Efficiency. Firms with appropriate experience or technologies will be asked to present during these discussions;

• Exchange views on topics related to Renewable Energy and Energy Efficiency;

• Attend a networking reception with leaders from Japan's Government and industry; and,

• Take advantage of the Commercial Service in Tokyo's business advisory services, if desired by the U.S. participant firms, should CS Japan resources be able to accommodate such interest.

• REED, the organizer of WSEW, will provide Roundtable participants above the division manager level with WSEW VIP passes and will arrange for these Roundtable participants to attend the Keynote/Special Sessions at WSEW 2015.

Proposed Schedule

February 23

Participate in a plenary session on the status of renewable energy market in Japan.

Participate in breakout sessions with Japanese firms.

Participate in networking opportunities with Japanese firms.

Receive a briefing on World Smart Energy Week, taking place February 25-27 in Tokyo.

Attend a networking reception with leaders from Japan's Government and industry.

Information can be found at: http://export.gov/reee/japan or http://export.gov/trademissions/index.asp.

Participation Requirements

All parties interested in participating in the Business Roundtable must complete and submit an application package for consideration by the Department of Commerce. All applicants will be evaluated based on their ability to meet certain conditions and best satisfy the selection criteria as outlined below. A maximum of 25 companies will be selected to participate in the Business Roundtable from the applicant pool. U.S. companies already doing business in Japan as well as U.S. companies seeking to enter to the Japanese market for the first time may apply. Applications will be reviewed on a rolling basis in the order that they are received.

Fees and Expenses

Companies selected to participate in the Roundtable will be required to pay a fee for participation. The participation fee is $700 for large firms. The participation fee is $500 for small or medium-sized firms.¹ The fee for each additional representative of the selected company is $500. Up to four additional representatives can be accommodated per company. The Roundtable and related events may be cancelled at any time by the Department of Commerce and all contributions refunded. If, for any reason, a company withdraws from participation prior to the Roundtable, the Department of Commerce, at its sole discretion, and upon its determination that it would be consistent with its authorities, may allow a partial refund of the contributed fee.

¹ An SME is defined as a firm with 500 or fewer employees or that otherwise qualifies as a small business under SBA regulations (see http://www.sba.gov/size). Parent companies, affiliates, and subsidiaries will be considered when determining business size. The dual pricing reflects the Commercial Service's user fee schedule that became effective May 1, 2008. For additional information, see http://www.export.gov/newsletter/march2008/initiatives.html.

Exclusions

The conference fee does not include any personal travel expenses such as airfare, lodging, most meals, incidentals, and local ground transportation and personal interpreters. Delegation members will be able to take advantage of U.S. Embassy rates for hotel rooms. Business visas may be required. Government fees and processing expenses to obtain such visas are also not included in the Business Roundtable costs. However, the U.S. Department of Commerce will provide instructions to each participant on the procedures required to obtain necessary business visas.

Conditions for Participation

Applicants must submit a completed mission application signed by a company official, together with supplemental application materials, including adequate information on the company's products and/or services, interest in doing business in Japan, and goals for participation by February 6, 2015. If the U.S. Department of Commerce receives an incomplete application, the U.S. Department of Commerce may reject the application, request additional information, or take the lack of information into account in its evaluation.

Each applicant must also certify that the products and services it seeks to export through its participation in the Business Roundtable are either produced in the United States, or, if not, are marketed under the name of a U.S. firm and have at least fifty-one percent U.S. content.

Applications can be found at http://export.gov/trademissions/index.asp or can be obtained by contacting Danius.Barzdukas@trade.gov.

In addition, the applicant must address how he/she satisfies the four selection criteria listed below in an email to Danius.Barzdukas@trade.gov:

(1) Whether the applicant represents a U.S. company that fits one of the following profiles:

• Companies that manufacture technology or provide services in the renewable energy sector;

• Developers of renewable energy projects with global experience;

• Local utilities who are willing to share their experience with domestic policies; and

• Companies active in the smart grid and energy efficiency industries.

(2) The applicant's interest in the Japanese RE&EE sector;

(3) The applicant's ability to identify and discuss policy issues relevant to U.S. competitiveness in the renewable energy or smart grid sectors;

(4) Consistency of the applicant's experiences and background with the stated scope of the event.

Referrals from political organizations and any documents containing references to partisan political activities (including political contributions) will be removed from an applicant's submission and not considered during the selection process.

Timeframe for Recruitment and Participation

Recruitment for the Business Roundtable will be conducted in an open and public manner, including publication in the Federal Register, posting on CS Japan's Web site, notices by industry trade associations and other multiplier groups, and publicity through the Commercial Service network. Recruitment will begin immediately and conclude no later than February 6, 2015. The U.S. Department of Commerce will review applications and make selection decisions beginning on or about January 20, 2014. Applications received after February 6, 2015 will be considered only if space and scheduling constraints permit.

DATES: The Business Roundtable will take place February 23, 2015. Applications are due no later than February 6, 2015.

Contacts

Danius Barzdukas, Office of East Asia and APEC, International Trade Administration, Department of Commerce, 202-482-1147, Danius.Barzdukas@trade.gov.

Andrew S. Bennett, Office of Energy and Environmental Industries, International Trade Administration, U.S. Department of Commerce, 202.482.5235, Andrew.Bennett@trade.gov.

Gregory Taevs, U.S. Commercial Service Tokyo, International Trade Administration, Department of Commerce, +81-3-3224-5070, Gregory.Taevs@trade.gov.

Frank Spector,
International Trade Specialist.

[FR Doc. 2015-01635 Filed 1-28-15; 8:45 am]

BILLING CODE 3510-DR-P